DEPARTMENT OF COMMERCE

National Oceanic and Atmospheric Administration

Proposed Information Collection; Comment Request; Reporting Requirements for the Ocean Salmon Fishery Off the Coasts of Washington, Oregon, and California

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before May 26, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Peggy Mundy, National Marine Fisheries Service (NMFS) West Coast Region, telephone: 206-526-4323; email: peggy.mundy@noaa.gov.

SUPPLEMENTARY INFORMATION:

I. Abstract

This request is for an extension of a currently approved information collection.

Ocean salmon fisheries conducted in the U.S. exclusive economic zone, 3-200 nautical miles off the West Coast states of Washington, Oregon, and California are managed by the Pacific Fishery Management Council (Council) and NOAA's National Marine Fisheries Service (NMFS) under the Magnuson Stevens Fishery Conservation and Management Act (MSA). Management measures for the ocean salmon fisheries are set annually, consistent with the Council's Pacific Coast Salmon Fishery Management Plan (FMP). The FMP provides a framework for managing the ocean salmon fisheries in a sustainable manner, as required under the MSA, through the use of conservation objectives, annual catch limits, and other reference points and status determination criteria described in the FMP. To meet these criteria, annual management measures, published in the Federal Register by NMFS, specify regulatory areas, catch restrictions, and landing restrictions based on the stock abundance forecasts. These catch and landing restrictions include area- and species-specific quotas for the commercial ocean salmon fishery, and generally require landings to be reported to the appropriate state agencies to allow for a timely and accurate accounting of the season's catch (50 CFR 660.404 and 50 CFR 660.408(o)). The best available catch and effort data and projections are presented by the state fishery managers in telephone conference calls involving the NMFS Northwest Regional Administrator and representatives of the Council. However, NMFS acknowledges that unsafe weather or mechanical problems could prevent commercial fishermen from making their landings at the times and places specified, and the MSA requires conservation and management measures to promote the safety of human life at sea. Therefore, the annual management measures will include provisions to exempt commercial salmon fishermen from compliance with the landing requirements when they experience unsafe weather conditions or mechanical problems at sea, so long as the appropriate notifications are made by, for example, at-sea radio and cellular telephone, and information on catch and other required information is given, under this collection of information. The annual management measures will specify the contents and procedure of the notifications, and the entities receiving the notifications (e.g., U.S. Coast Guard). Absent this requirement by the Council, the state reporting systems would not regularly collect this specific type of in-season radio report. These provisions, and this federal collection of information, promote safety at sea and provide practical utility for sustainably managing the fishery, ensuring regulatory consistency across each state by implementing the same requirements for alternative reporting in unsafe conditions in the surrounding territorial waters. This information collection is intended to be general in scope by leaving the specifics of the notifications for annual determination, thus providing flexibility in responding to salmon management concerns in any given year.

II. Method of Collection

Notifications are made by at-sea radio or cellular phone transmissions.

III. Data

OMB Control Number: 0648-0433.

Form Number(s): None.

Type of Review: Regular submission (extension of a currently approved collection).

Affected Public: Business or other for-profit organizations.

Estimated Number of Respondents: 40.

Estimated Time per Response: 15 minutes.

Estimated Total Annual Burden Hours: 10 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 24, 2020.
Sheleen Dumas,
Department PRA Clearance Officer, Office of the Chief Information Officer, Commerce Department.

[FR Doc. 2020-06402 Filed 3-26-20; 8:45 am]

BILLING CODE 3510-22-P